DEPARTMENT OF ENERGY

Office of Science, Basic Energy Sciences Advisory Committee

AGENCY: Department of Energy.

ACTION: Notice of Open Meeting.

SUMMARY: This notices announces a meeting of the Basic Energy Sciences Advisory Committee (BESAC). Federal Advisory Committee Act (Public Law 92-463, 86 Stat. 770) requires that public notice of these meetings be announced in the Federal Register.

DATES: Monday, February 28, 2000, 8:15 a.m. to 5:15 p.m.; Tuesday, February 29, 2000, 8:30 a.m. to 4:30 p.m.; and Wednesday, March 1, 2000, 8:30 a.m. to 12:00 p.m.

ADDRESS: Gaithersburg Washingtonian Marriott Center, 9751 Washingtonian Boulevard, Gaithersburg, MD 20878.

FOR FURTHER INFORMATION CONTACT: Sharon Long; Office of Basic Energy Sciences; U.S. Department of Energy; 19901 Germantown Road; Germantown, MD 20874-1290; Telephone: (301) 903-5565.

SUPPLEMENTARY INFORMATION: Purpose of the Meeting: The purpose of this meeting is to provide advice and guidance with respect to the basic energy sciences research program.

Tentative Agenda: Agenda will include discussions of the following:

Monday, February 28, 2000

• Welcome and Introduction

• Remarks from Acting Director, Office of Science

• News from Basic Energy Sciences

• President's R&D Focus Areas for FY 2001

• BES Discussion of R&D Focus Areas for FY 2001

• Report of the Neutron Scattering Subpanel

• Update on 4th Generation Synchrotron Light Source Activities

Tuesday, February 29, 2000

• Report of the Electron Beam Microcharacterization Center Review Subpanel

• Report of the Advanced Light Source Subpanel

• Brief overviews of BES programs

Wednesday, March 1, 2000

• Advisory Committee Discussion of Issues

• Review of Calendar Year 2000 Calendar

Public Participation: The meeting is open to the public. If you would like to file a written statement with the Committee, you may do so either before or after the meeting. If you would like to make oral statements regarding any of the items on the agenda, you should contact Sharon Long at 301-903-6594 (fax) or sharon.long@science.doe.gov (e-mail). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room; 1E-190, Forrestal Building; 1000 Independence Avenue, SW; Washington, DC 20585; between 9:00 a.m. and 4:00 p.m., Monday through Friday, except holidays.

Issued in Washington, D.C. on February 3, 2000.
Rachel Samuel,
Deputy Advisory Committee Management Officer.

[FR Doc. 00-2794 Filed 2-7-00; 8:45 am]

BILLING CODE 6450-01-P